DEPARTMENT OF THE INTERIOR

Bureau of Land Management

[BLM_NV_FRN_MO4500169110]

Notice of Competitive Offer and Notice of Segregation for Solar Energy Development on Public Land, Nye County, Nevada

AGENCY: Bureau of Land Management, Interior.

ACTION: Notice.

SUMMARY: The Bureau of Land Management (BLM), Pahrump Field Office will accept competitive bids on four parcels of public lands in Nye County, Nevada, for photovoltaic solar energy development: two parcels located within the Amargosa Valley Solar Energy Zone offered for lease, and two parcels to determine preferred right-of-way applicants. The BLM also announces the segregation of the two parcels of public lands outside the Amargosa Valley Solar Energy Zone from appropriation under the public land laws, including the Mining Law, but not the Mineral Leasing or Material Sales Acts, for a period of 2 years from the date of publication of this notice, subject to valid existing rights. This segregation will facilitate the orderly administration of the public lands while the BLM considers potential solar development on the two described parcels.

DATES: The BLM will hold the competitive live auction on June 27, 2023, at 10:00 a.m. local time for the two parcels located in the Amargosa Solar Energy Zone, and at 1:00 p.m. local time for the remaining two parcels.

The segregation for the lands identified in this notice is effective on April 11, 2023.

ADDRESSES: The auction will be held at the BLM Southern Nevada District Office, 4701 North Torrey Pines Drive, Las Vegas, Nevada 89130.

FOR FURTHER INFORMATION CONTACT: Beth Ransel, Supervisory Project Manager, at (702) 515-5000 or BLM_NV_SND_EnergyProjects@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM Pahrump Field Office has received a high level of interest in development of solar energy projects in the northwest area of the Pahrump Field Office, including numerous expressions of interest and submittal of fifteen applications for proposed solar energy development projects. In response to this interest, the BLM is proceeding with a competitive offering for four parcels of public land in Nye County, Nevada: two parcels for lease within the Amargosa Valley Solar Energy Zone, and two parcels to determine preferred right-of-way applicants.

Information: Parcel A and Parcel B

The BLM is conducting a competitive process to lease two parcels of land described as Parcel A and Parcel B, consisting of approximately 7,226 acres of public lands in the Amargosa Valley Solar Energy Zone (N-98822). The parcels are legally described as follows:

Parcel A

Mount Diablo Meridian, Nevada

T. 13 S., R. 47 E.

Sec. 35, NE¼NE¼SW¼, N½NW¼NE¼SW¼, SE¼NW¼NE¼SW¼, SE¼NE¼SW¼, NE¼SE¼SW¼, and SE¼;

Sec. 36, NE¼NE¼NW¼, S½NW¼NW¼, S½NW¼, and S½, those portions lying southwesterly of the southwesterly boundary of right-of-way CC-018078 (U.S. Hwy. 95).

T. 14 S., R. 47 E., unsurveyed.

Sec. 8, NE¼NE¼ and E½SE¼NE¼;

Sec. 9, N½, N½SW¼, N½SW¼SW¼, N½SW¼SW¼SW¼, SE¼SW¼SW¼SW¼, SE¼SW¼SW¼, SE¼SW¼, and SE¼;

Sec. 10, 11, 13, and 14, those portions lying southwesterly of the southwesterly boundary of right-of-way CC-018078 (U.S. Hwy. 95);

Sec. 15;

Sec. 16, NE¼, NE¼NW¼, NE¼NW¼NW¼, N½SE¼NW¼NW¼, SE¼SE¼NW¼NW¼, SE¼NW¼, N½NE

SW¼, SE¼NE¼SW¼, and SE¼;

Sec. 21, NE¼NE¼, E½NW¼NE¼, and SE¼NE¼;

Sec. 22, N½;

Sec. 23, N½;

Sec. 24, W½NE¼, and NW¼, those portions lying southwesterly of the southwesterly boundary of right-of-way CC-018078 (U.S. Hwy. 95):

The areas described contain approximately 3,775 acres, more or less, based on GIS information.

Parcel B

Mount Diablo Meridian, Nevada

T. 14 S., R. 47 E., unsurveyed.

Sec. 21, E½NE¼SE¼;

Sec. 22, N½SW¼, N½SW¼SW¼, SE¼SW¼SW¼, SE¼SW¼, and SE¼;

Sec. 23, S½;

Sec. 24, SW¼, and W½SE¼, those portions lying southwesterly of the southwesterly boundary of right-of-way CC-018078 (U.S. Hwy. 95);

Sec. 25, W½NE¼ and W½;

Sec. 26;

Sec. 27, NE¼, NE¼NW¼, NE¼NW¼NW¼, N½SE¼NW¼, SE¼SE¼NW¼, NE¼NE¼SW¼, N½SE¼, N½SW¼SE¼, SE¼SW¼SE¼, and SE¼SE¼;

Sec. 34, NE¼NE¼, NE¼NW¼NE¼, and E½SE¼NE¼;

Sec. 35, N½, N½SW¼, NE¼SW¼SW¼, SE¼SW¼, and SE¼;

Sec. 36, NW¼, N1/2SW¼, SW¼SW¼, and N½SE¼SW¼, and SW¼SE¼SW¼.

T. 15 S., R. 47 E., unsurveyed.

Sec. 1, NW¼NW¼NW¼;

Sec. 2, N½NE¼NE¼, SW¼NE¼NE¼, NW¼NE¼, N½SW¼NE¼, N½NE¼NW¼, and SE¼NE¼NW¼.

The areas described contain approximately 3,451 acres, more or less, based on GIS information.

Any lease issued will be subject to the terms and conditions specified in 43 CFR 2809.18, any additional requirements identified in the site-specific environmental review documentation, and the following project-specific stipulations:

1. The lessee will be required to comply with all policies, procedures, and requirements identified in the Record of Decision for the Programmatic Environmental Impact Statement for Solar Energy Development in Six Southwestern States (2012) (Solar PEIS).

2. The lessee will be required to comply with and apply all applicable programmatic design features, including those design features specifically identified for the Amargosa Valley Solar Energy Zone, in accordance with the Las Vegas Resource Management Plan, as amended by the Solar PEIS.

3. The lessee will be required to comply with the Las Vegas Resource Management Plan, as amended.

4. A notice to proceed for ground disturbing activities will not be authorized until site-specific resource surveys and National Environmental Policy Act of 1969 compliance are completed.

5. A notice to proceed will not be authorized until a Regional Mitigation Strategy for the Amargosa Valley Solar Energy Zone has been completed and identified mitigation-related fee payments have been made. Funding for the strategy will be provided by all leaseholders within the Amargosa Valley Solar Energy Zone.

6. Site specific mitigation measures (including payment of mitigation-related fees), required plans, and best management practices will be attached as conditions of approval for each activity authorized on a lease.

7. The lessee will be required to pay mitigation-related fees, including those that will be identified through development of the Regional Mitigation Strategy.

8. The lessee will be required to comply with all local, State, and Federal laws and requirements, including but not limited to, the Endangered Species Act, the National Historic Preservation Act, the Migratory Bird Treaty Act, and the Bald and Golden Eagle Protection Act, and will be required to obtain all other required permits for the project.

In accordance with 43 CFR 2809.17(b), “We may offer the lease to the next highest qualified bidder if the successful bidder does not execute the lease. . . .” The competitively offered leases are included in the bid package posted at: https://eplanning.blm.gov/eplanning-ui/project/2019939/510; lease language will not be modified prior to issuance, unless otherwise required by law. If the successful bidder fails to execute the lease, it will be considered a default and BLM will follow default procedures as described in this Notice.

Information: Parcel 1 and Parcel 2

The BLM is conducting a competitive process to determine preferred applicants to submit right-of-way applications and plans of development for two parcels of land described as Parcel 1 and Parcel 2, consisting of approximately 16,449 acres of public lands. The parcels are legally described as follows—

Parcel 1 (N-101259)

Mount Diablo Meridian, Nevada

T. 15 S., R. 49 E.,

Secs. 20, 21, and 22;

Sec. 23, SW¼NE¼, S½NW¼, and S½;

Sec. 24, SW¼ and S½SE¼, those portions lying westerly of the westerly boundary of right-of-way NVCC-0018323 (State Route 373);

Sec. 25, that portion lying westerly of the westerly boundary of right-of-way NVCC-0018323 (State Route 373);

Secs. 26 thru 29;

Sec. 32, NE¼, NE¼NW¼, and NE¼SE¼;

Secs. 33, 34, and 35;

Sec. 36, that portion lying westerly of the westerly boundary of right-of-way NVCC-0018323 (State Route 373).

T. 16 S., R. 49 E.,

Sec. 1, that portion lying westerly of the westerly boundary of right-of-way NVCC-0018323 (State Route 373);

Secs. 2 and 3;

Sec. 4, NE¼, NE¼NW¼, and NE¼SE¼.

The area described contains 10,129 acres, more or less, according to the BLM National PLSS CadNSDI, and the official plats of the surveys of the said lands, on file with the BLM.

Parcel 2 (N-101257)

Mount Diablo Meridian, Nevada

T. 16 S., R. 48 E.,

Sec. 1;

Sec. 2, E½;

Sec. 11, E½;

Sec. 12;

Sec. 13, N½NE¼, SW¼NE¼, W½, and NW¼SE¼;

Sec. 14, W½NE¼ and W½.

T. 16 S., R. 49 E.,

Sec. 5, W½;

Secs. 6 and 7;

Sec. 8, W½ and SE¼;

Sec. 9, SW¼SW¼;

Sec. 16, NE¼NE¼, S½NE¼, W½, and SE¼;

Sec. 17;

Sec. 18, N½NE¼ and N½NW¼.

The area described contains 6,320 acres, according to the official plats of the surveys of the said lands, on file with the BLM.

The competitive offering for Parcel 2 includes a restriction limiting the solar field area (arrays) proposed in the application filed by the Preferred Applicant, as shown on the map located in the bid package found at https://eplanning.blm.gov/eplanning-ui/project/2019939/510. The application submitted by the preferred applicant for Parcel 2, if any, may not propose solar field siting (arrays) outside of the specified area.

Within 30 days of being identified as the successful bidder, the successful bidder must submit a right-of-way application that conforms with all application requirements found at 43 CFR 2804.12, including payment of the required application fee. Within 60 days of being identified as the successful bidder, the successful bidder must submit a plan of development that conforms with the BLM's Solar Energy Plan of Development template. The preferred right-of-way applicant will be required to reimburse the United States for the cost of processing an application consistent with the requirements of the regulations at 43 CFR 2804.14. The cost recovery fees are based on the amount of time the BLM estimates it will take to process the right-of-way application and issue a decision. The BLM will begin processing the right-of-way application once the cost recovery fees are received as required by the regulations. Processing of the right-of-way application will be done in accordance with applicable law, regulations, and policy. Additional fees may be required as part of approval of a right-of-way grant, including mitigation-related fees.

In accordance with 43 CFR 2804.30(g), “Grant approval is not guaranteed by winning the subject bid and is solely at the BLM's discretion.”

Auction Information

As provided for in 43 CFR 2804.30(b) and 2809.13(a), bidding will occur in a competitive auction conducted in-person. The auction will be open to the public if there is sufficient room capacity, and the event may be live-streamed. More information will be made available at https://eplanning.blm.gov/eplanning-ui/project/2019939/510. Interested bidders are required to pre-register no later than two weeks prior to the scheduled auction to allow sufficient time for the BLM to verify qualifications. Under the requirements of 43 CFR 2803.10, qualified bidders must be:

• An individual, association, corporation, partnership, or similar business entity, or a Federal agency, or State, Tribal, or local government;

• Technically and financially able to construct, operate, maintain, and terminate the use of the public lands being applied for; and

• Of legal age and authorized to do business in Nevada.

Technical and financial capability may be demonstrated by:

• Providing documentation of any successful experience in construction, operation, and maintenance of a similar sized solar facility on either public or non-public lands; and

• Providing documentation on the availability of sufficient capitalization to carry out development, including the preliminary study stage of the project and the environmental review and clearance process.

Pre-registered bidders will be confirmed and assigned a bidder number before the auction commences. Complete details and frequently asked questions on the screening and bidding process can be found online at: https://eplanning.blm.gov/eplanning-ui/project/2019939/510.

The BLM has determined a minimum acceptable bid for each parcel. The minimum bid represents ten percent of the rent value of the land for one year under the BLM's solar rental schedule and an administrative fee of approximately $3.00 per acre to cover the BLM's costs of preparing and conducting the competitive offer. The minimum bid amount was rounded up to the nearest thousand dollar value. Minimum bids for the four parcels are: Parcel A—$17,000; Parcel B—$16,000; Parcel 1—$45,000; Parcel 2—$28,000. The competitive offer will start at the minimum bid and bidders may raise with subsequent bonus bids. The bonus bid consists of any dollar amount that a bidder wishes to bid in addition to the minimum bid. The bidder with the highest total bid (minimum and bonus bid) at the close of the auction will be declared the successful bidder for the parcel. If you are the successful bidder, the BLM will offer you a lease (Parcels A or B) or select you as the preferred right-of-way applicant (Parcel 1 or 2) only if you: (1) satisfy the qualifications in 43 CFR 2803.10; (2) make the required payments listed in this Notice; and (3) do not have any trespass action pending against you for any activity on BLM-administered lands or have any unpaid debts owed to the Federal Government.

If you are the successful bidder, payment of the minimum bid and at least 20 percent of the winning bonus bid must be submitted to the BLM Southern Nevada District Office by the close of business on the day following the auction. Within 15 calendar days after the auction, you must pay the balance of the bonus bid, and for Parcels A and B the successful bidder must also submit the first 12 months acreage rent (rent payment will be applied to first 12 months acreage rent if you become the lessee).

If no bids are received for a parcel, the BLM may choose to make the lands available through the non-competitive application process found in 43 CFR 2803, 2804, and 2805, or by competitive process at a later date.

Any required payments must be submitted by personal check, cashier's check, certified check, bank draft (wire transfer or ACH), or money order, or by other means deemed acceptable by the BLM, payable to the Department of the Interior—Bureau of Land Management. The administrative fee portion of the minimum bid will be retained by the agency to recover administrative costs for conducting the competitive bid and related processes. The remainder of the minimum bid and bonus bid will be deposited with the U.S. Treasury. Neither amount will be returned or refunded to the successful bidder(s) under any circumstance.

Only interests in issued right-of-way grants or leases are assignable under the regulations at 43 CFR 2807.21. The interest acquired by the successful bidder or preferred applicant from this auction may not be assigned or sold to another party prior to the issuance of a right-of-way grant or lease. The successful bidder may, however, continue to pursue their application if the successful bidder becomes a wholly owned subsidiary of a new third party.

Section 50265(b)(1) of the Inflation Reduction Act (codified at 43 U.S.C. 3006(b)(1)) conditions the issuance of rights-of-way for wind or solar energy development on public lands on (1) the BLM having held an onshore oil and gas lease sale during the 120-day period before the issuance of the wind or solar energy development right-of-way on public lands, and (2) the BLM having offered—in the one-year period preceding the date of the issuance of the wind or solar lease or grant—the lesser of 2 million acres or 50 percent of the oil and gas acreage for which expressions of interest had been submitted in that year. For Parcels A and B, the BLM will ensure compliance with these provisions prior to issuing the solar development right-of-way lease to the successful bidder, if any. For Parcels 1 and 2, the BLM will ensure compliance with these provisions prior to issuance of solar energy development right-of-way grants, should solar development be approved in the future.

Default Procedures

If the requirements listed in this Notice are not satisfied by the successful bidder as described, it will be considered default, and the BLM will keep all money that has been submitted and will not offer that bidder a right-of-way lease (Parcels A and B) or identify that bidder as the preferred ROW applicant (Parcels 1 and 2). In that event, the BLM may identify the next highest bidder as the successful bidder (then follow procedures in this Notice for the successful bidder) or re-offer the lands through another competitive process.

If a bidder is the apparent successful bidder with respect to multiple parcels and that bidder fails to meet the requirements described in this Notice resulting in default on any single parcel, the BLM will cancel all parcels to that bidder and will keep all money that has been submitted.

Segregation—Parcel 1 and Parcel 2

Regulations found at 43 CFR 2091.3-1(e) and 2804.25(f) allow the BLM to segregate public lands for potential rights-of-way when initiating a competitive process for solar energy development from the operation of the public land laws, including the Mining Law, by publication of a Federal Register notice. The BLM uses this authority to preserve its ability to approve, approve with modifications, or deny proposed rights-of-way and to facilitate the orderly administration of the public lands. This segregation is subject to valid existing rights, including existing mining claims located before this segregation notice. Licenses, permits, cooperative agreements, or discretionary land use authorizations of a temporary nature that would not impact lands identified in this notice may be allowed with the approval of a BLM authorized officer during the segregation period. As provided in the regulations, the segregation of lands described in this notice as Parcel 1 and Parcel 2 will not exceed 2 years from the date of publication unless extended for an additional 2 years through publication of a new notice in the Federal Register. The segregation period will terminate and the land will automatically reopen to appropriation under the public land laws, including the mining law, at the earliest of the following dates: upon issuance of a decision by the authorized officer granting, granting with modifications, or denying the application for a right-of-way; without further administrative action at the end of the segregation provided for in the Federal Register notice initiating the segregation; or upon publication of a Federal Register notice terminating the segregation. Upon termination of the segregation of these lands, all lands subject to this segregation would automatically reopen to appropriation under the public land laws, including the mining law.

Joseph Varner,
Acting Field Manager—Pahrump Field Office.

[FR Doc. 2023-07568 Filed 4-10-23; 8:45 am]

BILLING CODE 4331-21-P